DEPARTMENT OF THE INTERIOR

Bureau of Indian Affairs

[DR.5A211.IA000413]

Contract Support Costs

AGENCY: Bureau of Indian Affairs, Interior.

ACTION: Notice of tribal consultation.

SUMMARY: The Assistant Secretary—Indian Affairs, in conjunction with the Acting Director, Indian Health Service (IHS), will conduct a consultation session with Indian tribes to work together to identify long-term solutions concerning contract support costs (CSC) as it relates to the Fiscal Year (FY) 2014 Consolidated Appropriations Act.

DATES: The listening session will be held on March 11, 2014, from 9:00 a.m. to noon. Written comments must be received April 22, 2014.

ADDRESSES: See the SUPPLMENTARY INFORMATION section of this notice for the location of the tribal consultation session. Submit comments by email to: consultation@bia.gov or by U.S. mail to: Office of the Assistant Secretary—Indian Affairs, U.S. Department of the Interior, attn: Sequoyah Simermeyer, Mail Stop 3071 MIB, 1849 C Street NW., Washington, DC 20240.

FOR FURTHER INFORMATION CONTACT: Sequoyah Simermeyer, Deputy Chief of Staff, Office of the Assistant Secretary—Indian Affairs, (202) 208-7163.

SUPPLEMENTARY INFORMATION: The Assistant Secretary—Indian Affairs, in conjunction with the Acting Director, IHS, will conduct a consultation session on Contract Support Costs (CSC) as part of the National Congress of American Indians Executive Winter Session, Westin Washington DC City Center—Monticello Ballroom, 1400 M Street NW., Washington, DC, from 9:00 a.m. to noon, on Tuesday, March 11, 2014.

The FY 2014 Consolidated Appropriations Act includes funding to implement the Indian Self-Determination and Education Assistance Act of 1975 for both the Bureau of Indian Affairs (BIA) and the IHS. The Act does not specify a limit on the amount of such funds available in FY 2014 for the payment of CSC, nor does it include the proposal put forth in the Administration's FY 2014 budget request that would place a cap on the CSC amounts available for each tribal contract or compact. Instead, as set forth in the Joint Explanatory Statement accompanying the Act, Congress “remanded back to the agencies to resolve” the determination of CSC amounts to be paid from within the FY 2014 appropriation.

Congress further directed the BIA and the IHS to consult with the tribes and work with the House and Senate committees of jurisdiction, the Office of Management and Budget, and the Committees on Appropriations to formulate long-term accounting, budget, and legislative strategies that will yield solutions going forward. Congress indicated that the BIA and the IHS should consider a standardized approach that streamlines the contract negotiation process, provides consistent and clear cost categories, and ensures efficient and timely cost documentation for the agencies and the Tribes. A work plan is due to Congress on May 17, 2014 (120 days from enactment of the appropriations bill) for both the BIA and the IHS, and this consultation will help inform the development of the work plan.

Dated: February 14, 2014.
Kevin K. Washburn,
Assistant Secretary—Indian Affairs.

[FR Doc. 2014-03720 Filed 2-20-14; 8:45 am]

BILLING CODE 4310-02-P